ENVIRONMENTAL PROTECTION AGENCY

[FRL-6561-3]

Investigator-Initiated Grants: Requests for Applications

AGENCY: Environmental Protection Agency.

ACTION: Notice of Requests for Applications.

SUMMARY: This notice provides information on the availability of fiscal year 2000 investigator-initiated grants program announcements, in which the areas of research interest, eligibility and submission requirements, evaluation criteria, and implementation schedules are set forth. Grants will be competitively awarded following peer review.

DATES: Receipt dates vary depending on the specific research area within the solicitation and are listed below.

FOR FURTHER INFORMATION CONTACT: U.S. Environmental Protection Agency, National Center for Environmental Research and Quality Assurance (8703R), 1200 Pennsylvania Avenue, NW., Washington DC 20460, telephone (800) 490-9194. The complete announcement can be accessed on the Internet from the EPA home page: http://www.epa.gov/ncerqa under “announcements.”

SUPPLEMENTARY INFORMATION: In its Requests for Applications (RFA) the U.S. Environmental Protection Agency (EPA) invites research grant applications in the following areas of special interest to its mission: (1) Assessing the Consequences of Interactions between Human Activities and a Changing Climate; (2) Development of National Aquatic Ecosystem Classifications and Reference Conditions; (3) Valuation of Children's Health Effects; (4) Recreational Water Quality: Indicators and Interstitial Zones; and (5) Exploratory Research to Anticipate Future Environmental Issues. Applications must be received as follows: April 26, 2000, for topic (1); April 17, 2000, for topic (2); June 6, 2000, for topics (3) and (4); and July 6, 2000, for topic (5).

The RFAs provide relevant background information, summarize EPA's interest in the topic areas, and describe the application and review process.

Contact persons for the “Assessing the Consequences of Interactions between Human Activities and a Changing Climate” RFA is Bernice L. Smith (smith.bernicel@epa.gov), telephone 202-564-6934. Contact person for the “Development of National Aquatic Ecosystem Classifications and Reference Conditions” RFA is Barbara Levinson (levinson.barbara@epa.gov), telephone 202-564-6911. Contact person for the “Valuation of Children's Health Effects” RFA is Matthew Clark (clark.matthew@epa.gov), telephone 202-564-6842. Contact person for the “Recreational Water Quality: Indicators and Interstitial Zones” RFA is Cynthia Nolt-Helms (nolt-helms.cynthia@epa.gov), telephone 202-564-6763. Contact persons for the “Exploratory Research to Anticipate Future Environmental Issues” RFA are David Kleffman (kleffman.david@epa.gov), telephone 202-564-6903, Roger Cortesi (cortesi.roger@epa.gov), telephone 202-564-6852, and Barbara Levinson (levinson.barbara@epa.gov), telephone 202-564-6911.

Dated: February 29, 2000.
Approved for publication.
Norine E. Noonan,
Assistant Administrator for Research and Development.

[FR Doc. 00-6396 Filed 3-14-00; 8:45 am]

BILLING CODE 6560-50-P